DEPARTMENT OF LABOR

Employment and Training Administration

[TA-W-65,065]

Yazaki North America, Cantor, MI; Notice of Termination of Investigation

Pursuant to Section 221 of the Trade Act of 1974, as amended, an investigation was initiated on February 2, 2009 in response to a worker petition filed on behalf of workers of Yazaki North America, Cantor, Michigan.

The petitioners have requested that the petition be withdrawn. Consequently, the investigation has been terminated.

Signed at Washington, DC, this 3rd day of April 2009.
Richard Church,
Certifying Officer, Division of Trade Adjustment Assistance.

[FR Doc. E9-10566 Filed 5-6-09; 8:45 am]

BILLING CODE 4510-FN-P